DEPARTMENT OF DEFENSE

GENERAL SERVICES ADMINISTRATION

NATIONAL AERONAUTICS AND SPACE ADMINISTRATION

[OMB Control No. 9000-0048; Docket No. 2018-0003; Sequence No. 9]

Submission for OMB Review; Authorized Negotiators and Integrity of Unit Prices

AGENCY: Department of Defense (DOD), General Services Administration (GSA), and National Aeronautics and Space Administration (NASA).

ACTION: Notice.

SUMMARY: Under the provisions of the Paperwork Reduction Act, the Regulatory Secretariat Division will be submitting to the Office of Management and Budget (OMB) a request to review and approve an extension of a previously approved information collection requirement regarding authorized negotiators and integrity of unit prices.

DATES: Submit comments on or before January 14, 2019.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0048, Authorized Negotiators and Integrity of Unit Prices.

Instructions: Please submit comments only and cite Information Collection 9000-0048, Authorized Negotiators and Integrity of Unit Prices, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Michael O. Jackson, Procurement Analyst, Office of Governmentwide Acquisition Policy, GSA, 202-208-4949, or via email to michaelo.jackson@gsa.gov.

SUPPLEMENTARY INFORMATION:

A. Purpose

This information collection requirement, OMB Control No. 9000-0048, currently titled “Authorized Negotiators,” is proposed to be retitled “Authorized Negotiators and Integrity of Unit Prices,” due to consolidation with currently approved information collection requirement OMB Control No. 9000-0080, Integrity of Unit Prices.

This information collection requirement pertains to information that offerors and contractors must submit in response to the requirements in the Federal Acquisition Regulation (FAR) as follows:

1. Authorized Negotiators—FAR 52.215-1(c)(2)(iv). Firms offering supplies or services to the Government under negotiated solicitations must provide the names, titles, and telephone and facsimile numbers (and electronic addresses if available) of authorized negotiators to assure that discussions are held with authorized individuals.

2. Integrity of Unit Prices—FAR 52.215-14. This clause requires offerors and contractors under negotiated solicitations and contracts to identify those supplies which they will not manufacture or to which they will not contribute significant value, if requested by the contracting officer or when contracting without adequate price competition. This requirement does not apply to: Contracts below the simplified acquisition threshold, construction and architect-engineering services, utility services, service contracts where supplies are not required, commercial items, and contracts for petroleum products.

B. Public Comment

A 60-day notice published in the Federal Register at 83 FR 45129, on September 5, 2018. No comments were received.

C. Annual Reporting Burden

1. Authorized Negotiators—FAR 52.215-1(c)(2)(iv)

Respondents: 708,016.

Responses per Respondent: 1.

Total Annual Responses: 708,016.

Hours per Response: 0.017.

Total Burden Hours: 12,036.

2. Integrity of Unit Prices—FAR 52.215-14

Respondents: 2,808.

Responses per Respondent: 2.375.

Total Annual Responses: 6,669.

Hours per Response: 1.

Total Burden Hours: 6,669.

3. Summary

Respondents: 710,824.

Total Annual Responses: 714,685.

Total Burden Hours: 18,705.

Affected Public: Businesses or other for-profit and not-for-profit institutions.

Frequency: Annually.

Obtaining Copies: Requesters may obtain a copy of the information collection documents from the General Services Administration, Regulatory Secretariat Division (MVCB), 1800 F Street NW, Washington, DC 20405, telephone 202-501-4755.

Please cite OMB Control No. 9000-0048, Authorized Negotiators and Integrity of Unit Prices, in all correspondence.

Dated: December 10, 2018.
Janet Fry,
Director, Federal Acquisition Policy Division, Office of Governmentwide Acquisition Policy, Office of Acquisition Policy, Office of Governmentwide Policy.

[FR Doc. 2018-27020 Filed 12-12-18; 8:45 am]

BILLING CODE 6820-EP-P